DEPARTMENT OF ENERGY

Federal Energy Regulatory Commission

[Project No. 13102-000; Project No. 13105-000]

Birch Power Company; Brookfield Power Company; Notice of Preliminary Permit Applications Accepted for Filing and Soliciting Comment, Motions To Intervene, and Competing Applications

October 17, 2008.

On February 1, 2008, Birch Power Company (Birch Power) and BPUS Generation Development LLC (BPUS) filed applications, pursuant to section 4(f) of the Federal Power Act, proposing to study the feasibility of the Demopolis Lock and Dam Hydroelectric Project, to be located at the existing U.S. Army Corp of Engineers' (Corps) Demopolis Lock and Dam on the Tombigbee River in Marengo County, Alabama.

The proposed projects would use the existing Corps Demopolis Lock and Dam and consists of:

For Birch Power—(1) A proposed powerhouse with two generating units having a total capacity of 23.7 MW; (2) two proposed 90-foot-long, 18-foot-diameter steel penstocks; (3) a proposed one-mile-long transmission line; and (4) appurtenant facilities. The project would have an annual generation of 155 GWh, and would be sold to a local utility.

For BPUS—(1) A proposed powerhouse with three generating units having a total capacity of 37.5 MW; (2) a proposed intake channel and tailrace channel; (3) a proposed 3.7-mile-long transmission line; and (4) appurtenant facilities. The project would have an annual generation of 120 GWh, and would be sold to a local utility.

Applicant Contact: For Birch Power—Mr. Ted Sorenson, P.E., Sorenson Engineering, 5203 South 11th East, Idaho Falls, ID 83404, Phone: 208-522-8069; for BPUS—Mr. Jeffrey M. Auser, P.E., BPUS Generation Development LLC, 225 Greenfield Parkway, Suite 201, Liverpool, NY 13088, Phone: 315-413-2821. FERC Contact: Henry Woo, 202-502-8872.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13102 or P-13105) in the docket number field to access the document. For assistance, call toll-free 1-866-208-3372.

Kimberly D. Bose,
Secretary.

[FR Doc. E8-25344 Filed 10-23-08; 8:45 am]

BILLING CODE 6717-01-P